BUREAU OF CONSUMER FINANCIAL PROTECTION

[Docket No: CFPB-2013-0022]

Agency Information Collection Activities: Submission for OMB Review; Comment Request

AGENCY: Bureau of Consumer Financial Protection.

ACTION: Notice and request for comment.

SUMMARY: In accordance with the Paperwork Reduction Act of 1995 (PRA), the Consumer Financial Protection Bureau (Bureau) is proposing a new generic information collection clearance titled, “Generic Clearance for Consumer Complaint and Information Collection System (Testing and Feedback).”

DATES: Written comments are encouraged and must be received on or before August 26, 2013 to be assured of consideration.

ADDRESSES: You may submit comments, identified by the title of the information collection, OMB Control Number (see below), and docket number (see above), by any of the following methods:

• Electronic: http://www.regulations.gov. Follow the instructions for submitting comments.

• Mail/Hand Delivery/Courier: Consumer Financial Protection Bureau (Attention: PRA Office), 1700 G Street, NW., Washington, DC 20552.

Please note that comments submitted by fax or email and those submitted after the comment period will not be accepted. In general, all comments received will be posted without change to regulations.gov, including any personal information provided. Sensitive personal information, such as account numbers or social security numbers, should not be included.

FOR FURTHER INFORMATION CONTACT: Documentation prepared in support of this information collection request is available at www.reginfo.gov. Requests for additional information should be directed to the Consumer Financial Protection Bureau, (Attention: PRA Office), 1700 G Street NW., Washington, DC 20552, (202) 435-9575, or email: PRA@cfpb.gov. Please do not submit comments to this email box.

SUPPLEMENTARY INFORMATION:

Title of Collection: Generic Clearance for Consumer Complaint and Information Collection System (Testing and Feedback).

OMB Control Number: 3170-XXXX.

Type of Review: New Generic Clearance Request.

Affected Public: Individuals and Households; Businesses or other for-profit institutions; and State, Local or Tribal governments.

Estimated Number of Respondents: 3,270,000.

Estimated Total Annual Burden Hours: 418,260.

Abstract: Under Section 1013(b)(3) of the Dodd-Frank Act, the Bureau facilitates the centralized collection of, monitoring of, and response to complaints and inquiries regarding consumer financial products or services. The tasks of developing new questions and improving upon existing complaint questions along with related feedback to improve the complaint processing system would benefit from the streamlined flexibility of the generic clearance process. This generic clearance will allow the Bureau to test and pilot new and improved questions and requests for information. Stakeholder feedback will be used by Consumer Response to inform program improvements and enhancements as well as establishing their priority.

Request for Comments: The Bureau issued a 60-day Federal Register notice on October 31, 2011 76 FR 67128. Comments were solicited and continue to be invited on: (a) Whether the collection of information is necessary for the proper performance of the functions of the Bureau, including whether the information shall have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: July 16, 2013.
Nellisha Ramdass,
Acting Deputy Chief Information Officer, Bureau of Consumer Financial Protection.

[FR Doc. 2013-17852 Filed 7-24-13; 8:45 am]

BILLING CODE 4810-AM-P